DEPARTMENT OF TRANSPORTATION

Research and Special Programs Administration

Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the association with each identified application.

FOR FURTHER INFORMATION CONTACT: J. Suzanne Hedgepeth, Director, Office of Hazardous Materials, Exemptions and Approvals, Research and Special Programs Administration, U.S. Department of Transportation, 400 Seventh Street, SW., Washington, DC 20590-0001, (202) 366-4535

Key to “Reasons for Delay”:

1. Awaiting additional information from applicant

2. Extensive public comment under review

3. Application is technically complex and is of significant impact or precedent-setting and requires extensive analysis

4. Staff review delayed by other priority issues or volume of exemption applications

Meaning of Application Number Suffixes:

N—New application

M—Modification request

PM—Party to application with modification request

Issued in Washington, DC, on September 13, 2000.
J. Suzanne Hedgepeth,
Director, Office of Hazardous Materials Exemptions and Approvals.

Application No. | Applicant | Reason for delay | Estimated date of completion
New Exemption Applications
11862-N | The BOC Group, Murray Hill, NJ | 4 | 09/29/2000
11927-N | Alaska Marine Lines, Inc., Seattle, WA | 4 | 09/29/2000
12125-N | Mayo Foundation, Rochester, MN | 4 | 09/29/2000
12142-N | Aristech Chemical Corp., Pittsburgh, PA | 4 | 09/29/2000
12148-N | Eastman Kodak Company, Rochester, NY | 4 | 09/29/2000
12158-N | Hickson Corporation, Conley, GA | 4 | 09/29/2000
12181-N | Aristech, Pittsburgh, PA | 4 | 09/29/2000
12248-N | Ciba Specialty Chemicals Corp., High Point, NC | 4 | 09/29/2000
12277-N | The Indian Sugar & General Engineering Corp. ISGE, Haryana, IX | 1 | 10/31/2000
12281-N | ABS Group, Inc., Houston, TX | 4 | 10/31/2000
12290-N | Savage Industries, Inc., Pottstown, PA | 4 | 10/31/2000
12307-N | Kern County Dept. of Weights & Measures, Bakersfield, CA | 4 | 10/31/2000
12332-N | Automotive Occupant Restraints Council, Lexington, KY | 4 | 10/31/2000
12339-N | BOC Gases, Murray Hill, NJ | 4 | 10/31/2000
12343-N | City Machine & Welding, Inc. of Amarillo, Amarillo, TX | 1 | 10/31/2000
12351-N | Nalco/Exxon Energy Chemicals, L.P., Freeport, TX | 4 | 10/31/2000
12353-N | Monson Companies, South Portland, ME | 4 | 10/31/2000
12355-N | Union Tank Car Company, East Chicago, IN | 4 | 10/31/2000
12368-N | Occidental Chemical Corp., Dallas, TX | 4 | 10/31/2000
12381-N | Ideal Chemical & Supply Co., Memphis, TN | 4 | 10/31/2000
12392-N | Consani Engineering, Elsies River, SA | 1 | 10/31/2000
12397-N | FMC Corporation, Philadelphia, PA | 4 | 10/31/2000
12401-N | DG Supplies, Inc., Hamilton, NJ | 4 | 10/31/2000
12405-N | Air Products and Chemicals, Inc., Allentown, PA | 4 | 10/31/2000
12406-N | Occidental Chemical Corporation, Dallas, TX | 4 | 10/31/2000
12412-N | Great Western Chemical Company, Portland, OR | 4 | 10/31/2000
12422-N | Connecticut Yankee Atomic Power Co., East Hampton, CT | 4 | 10/31/2000
12427-N | Chubb Fire Ltd., England | 4 | 11/30/2000
12433-N | The Lighter Company, Inc., Miami, FL | 4 | 11/30/2000
12434-N | Salmon Air, Salmon, ID | 4 | 11/30/2000

Application No. | Applicant | Reason for delay | Estimated date of completion
Modifications to Exemptions
8308-M | Tradewind Enterprises, Inc., Hillsboro, OR | 4 | 10/31/2000
8556-M | Gardner Cryogenics, Lehigh Valley, PA | 4 | 10/31/2000
9847-M | FIBA Technologies, Inc., Westboro, MA | 4 | 10/31/2000
10656-M | Conf. of Radiation Control Program Directors, Inc., Frankfort, KY | 4 | 10/31/2000
10977-M | Federal Industries Corporation, Plymouth, MN | 4 | 9/29/2000
11296-M | Heritage Transport, LLC, Indianapolis, IN | 4 | 10/31/2000
11537-M | JCI Jones Chemicals, Inc., Milford, VA | 4 | 10/31/2000
11769-M | Great Western Chemical Company, Portland, OR | 4 | 10/31/2000
11769-M | Great Western Chemical Company, Portland, OR | 4 | 10/31/2000
11769-M | Hydrite Chemical Company, Brookfield, WI | 4 | 10/31/2000
11798-M | Air Products and Chemicals, Inc., Allentown, PA | 1, 4 | 10/31/2000
11798-M | Anderson Development Company, Adrian, MI | 4 | 11/30/2000
12056-M | Defense of Defense (MTMC), Falls Church, VA | 4 | 10/31/2000
12074-M | Van Hool NV, B-2500 Lier Koningshooikt, BG | 1 | 10/31/2000
12178-M | STC Technologies, Inc., Bethlehem, PA | 1 | 10/31/2000

[FR Doc. 00-23959 Filed 9-18-00; 8:45 am]

BILLING CODE 4910-60-M